NUCLEAR REGULATORY COMMISSION

Independent External Review Panel To Identify Vulnerabilities in the U.S. Nuclear Regulatory Commission's Materials Licensing Program: Meeting Notice

AGENCY: U.S. Nuclear Regulatory Commission.

ACTION: Notice of Meeting.

SUMMARY: NRC will convene a meeting of the Independent External Review Panel to Identify Vulnerabilities in the U.S. Nuclear Regulatory Commission's (NRC) Materials Licensing Program from January 8 through January 11, 2008. A sample of agenda items to be discussed during the public session includes: (1) The NRC's basis for classifying Category 3.5 sources; (2) Web-based Licensing; (3) National Source Tracking System; and (4) source security. A copy of the agenda for the meeting can be obtained by e-mailing Mr. Aaron T. McCraw at the contact information below.

Purpose: Continue the panel's assessment of the NRC's licensing program by exploring Web-based Licensing, the National Source Tracking System, and the NRC's measures to enhance source security.

Date and Time for Closed Sessions: January 11, 2008, from 9 a.m. to 12 p.m. This session will be closed so that NRC staff and the Review Panel can discuss safeguards information and pre-decisional information pursuant to 5 U.S.C. 552b (c)(3) and 5 U.S.C. 552b (c)(9)(B), respectively.

Date and Time for Open Sessions: January 8, 2008, from 2 p.m. to 4:30 p.m.; and January 9-10, from 9 a.m. to 4:30 p.m.

Address for Public Meeting: U.S. Nuclear Regulatory Commission, Two White Flint North Building, 11545 Rockville Pike, Rockville, Maryland 20852. Specific room locations will be indicated for each day on the agenda.

Public Participation: Any member of the public who wishes to participate in the meeting should contact Mr. McCraw using the information below.

Contact Information: Aaron T. McCraw, e-mail: atm@nrc.gov, telephone: (301) 415-1277.

Conduct of the Meeting

Mr. Thomas E. Hill will chair the meeting. Mr. Hill will conduct the meeting in a manner that will facilitate the orderly conduct of business. The following procedures apply to public participation in the meeting:

1. Persons who wish to provide a written statement should submit an electronic copy to Mr. McCraw at the contact information listed above. All submittals must be received by January 1, 2008, and must pertain to the topics on the agenda for the meeting.

2. Questions and comments from members of the public will be permitted during the meeting, at the discretion of the Chairman.

3. The transcript and written comments will be available for inspection at the NRC Public Document Room, 11555 Rockville Pike, Rockville, Maryland 20852-2738, telephone (800) 397-4209, on or about May 1, 2008.

4. Persons who require special services, such as those for the hearing impaired, should notify Mr. McCraw of their planned attendance.

This meeting will be held in accordance with the Atomic Energy Act of 1954, as amended (primarily Section 161a); the Federal Advisory Committee Act (5 U.S.C. App); and the Commission's regulations in Title 10, U.S. Code of Federal Regulations, Part 7.

Dated: December 10, 2007.
Andrew L. Bates,
Advisory Committee Management Officer.

[FR Doc. E7-24286 Filed 12-13-07; 8:45 am]

BILLING CODE 7590-01-P